DEPARTMENT OF TRANSPORTATION

Federal Aviation Administration

14 CFR Part 71

[Airspace Docket No. 00-ACE-4]

Remove Class D and Class E Airspace; Kansas City, Richards-Gebaur Airport, MO

AGENCY: Federal Aviation Administration [FAA], DOT.

ACTION: Final rule.

SUMMARY: This action removes the Class D and Class E airspace areas at Kansas City, Richards-Gebaur Airport, MO. The airport was closed January 9, 2000.

EFFECTIVE DATE: 0901 UTC April 20, 2000.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

On January 9, 2000, the Kansas City, Richard-Gebaur Airport, MO was closed. Based on the airport being closed the Class D and Class E airspace areas are no longer necessary.

The Rule

This amendment to part 71 of the Federal Regulations (14 CFR part 71) removes the Class D and Class E airspace areas at Kansas City, Richards-Gebaur Airport, MO, extending upward from the surface to 1200 feet Above Ground Level (AGL). The closing of the airport made this action necessary.

The FAA concludes that there is an immediate need to remove the Class D and Class E airspace in order to incorporate this change into the next Sectional Chart and avoid confusion on the part of the pilots. Therefore, it is found that notice and opportunity to prior public comment herein are impracticable, and that good cause exists for making this amendment effective in less than 30 days.

The FAA has determined that this regulation only involves an established body of technical regulations for which frequent and routine amendments are necessary to keep them operationally current. Therefore, this regulation: (1) Is not a “significant regulatory action'' under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Aviation, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9G, Airspace Designations and Reporting Points, dated September 10, 1999, and effective September 16, 1999, is amended as follows:

Paragraph 5000 Class D airspace area designated for an airport that contains at least one primary airport around which the airspace is designated

* * * * *

ACE MO D Kansas City, Richards-Gebaur Airport, MO [Removed]

* * * * *

Paragraph 6004 Class E airspace areas designated as an Extension to Class D airspace area

ACE MO E4 Kansas City, Richards-Gebaur Airport, MO [Removed]

* * * * *

Paragraph 6005 Class E airspace areas extending upward from 700 feet or more above the surface of the Earth

ACE MO E5 Kansas City, Richards-Gebaur Airport, MO [Removed]

* * * * *

Issued in Kansas City, MO on January 24, 2000.
Herman J. Lyons, Jr.,
Manager, Air Traffic Division, Central Region.

[FR Doc. 00-2670 Filed 2-4-00; 8:45 am]

BILLING CODE 4910-13-M